DEPARTMENT OF COMMERCE

15 CFR Part 7

[Docket No. 191217-0118]

RIN 0605-AA51

Securing the Information and Communications Technology and Services Supply Chain

AGENCY: U.S. Department of Commerce.

ACTION: Proposed rule; extension of comment period.

SUMMARY: On November 27, 2019, the U.S. Department of Commerce (the Department) published a proposed rule to implement regulations pursuant to the Executive order of of May 15, 2019, entitled “Securing the Information and Communications Technology and Services Supply Chain,” that would govern the process and procedures that the Secretary of Commerce (Secretary) will use to identify, assess, and address certain information and communications technology and services transactions that pose an undue risk to critical infrastructure or the digital economy in the United States, or an unacceptable risk to U.S. national security or the safety of United States persons. The Department opened a public comment period through December 27, 2019. Through this document, the Department is extending the period for public comment until January 10, 2020.

DATES: The comment period for the proposed rule published on November 27, 2019 (84 FR 65316), is extended. Comments and information regarding this proposed rule must be received by close of business on January 10, 2020.

ADDRESSES: You may submit comments on the proposed rule by any of the following methods:

• By the Federal eRulemaking Portal: http://www.regulations.gov at docket number DOC-2019-0005.

• By email directly to: ICTsupplychain@doc.gov. Include “RIN 0605-AA51” in the subject line.

• By mail or hand delivery to: Henry Young, U.S. Department of Commerce, ATTN: RIN 0605-AA51, 1401 Constitution Avenue NW, Washington, DC 20230.

• Instructions: Comments sent by any other method, to any other address or individual, or received after the end of the comment period, may not be considered. For those seeking to submit confidential business information (CBI), please submit such information by email or mail or hand delivery as instructed above. Each CBI submission must also contain a summary of the CBI in sufficient detail to permit a reasonable understanding of the substance of the information for public consumption. Such summary information will be posted on regulations.gov.

FOR FURTHER INFORMATION CONTACT: Henry Young, U.S. Department of Commerce, 1401 Constitution Avenue NW, Washington, DC 20230; telephone: 202-482-0224. For media inquiries: Rebecca Glover, Director, Office of Public Affairs, U.S. Department of Commerce, 1401 Constitution Avenue NW, Washington, DC 20230; telephone: (202) 482-4883.

SUPPLEMENTARY INFORMATION:

Background

On November 27, 2019, the Department published a proposed rule to implement regulations pursuant to Executive Order 13873, “Securing the Information and Communications Technology and Services Supply Chain” (84 FR 22689) that would govern the process and procedures that the Secretary of Commerce (Secretary) will use to identify, assess, and address certain information and communications technology and services transactions that pose an undue risk to critical infrastructure or the digital economy in the United States, or an unacceptable risk to U.S. national security or the safety of United States persons. The document requested comments on or before December 27, 2019. Through this document, the Department is extending the period for public comment until January 10, 2020, to give interested members of the public additional time to submit comments. All other information and instructions to commenters provided in the original document remain unchanged.

Previously submitted comments do not need to be resubmitted.

Authority: 50 U.S.C. 1701 et seq.; 50 U.S.C. 1601 et seq.; and section 301 of Title 3, United States Code.

Wilbur L. Ross,
Secretary of Commerce.

[FR Doc. 2019-27596 Filed 12-19-19; 8:45 am]

BILLING CODE 3510-20-P